EXPORT-IMPORT BANK

Application for Final Commitment for a Long-Term Transaction in Excess of $100 Million: AP089519XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before September 17, 2024 to be assured of consideration before final consideration of the transaction by the Board of Directors of EXIM.

ADDRESSES: Comments may be submitted through Regulations.gov at WWW.REGULATIONS.GOV. To submit a comment, enter AP089519XX under the heading “Enter Keyword or ID” and select Search. Follow the instructions provided at the Submit a Comment screen. Please include your name, company name (if any) and AP089519XX on any attached document.

SUPPLEMENTARY INFORMATION:

Reference: AP089519XX.

Purpose and Use:

Brief description of the purpose of the transaction: The financing request is in support of the Obligor's acquisition of goods and services, to be utilized in the deployment of a nationwide 5G telecommunications network in India. EXIM's support is to be made pursuant to the EXIM co-financing agreement with Finnvera PLC, the Finnish export credit agency.

Brief non-proprietary description of the anticipated use of the items being exported: The 5G equipment and services will be used for deployment of the nation-wide 5G network in India.

Parties:

Principal Supplier: Nokia Oyj—Finland Obligor:

Reliance Jio Infocomm Ltd.—India Guarantor(s): N/A.

Description of Items Being Exported: 5G equipment and services.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Deirdre Hodge,
Assistant Corporate Secretary.

[FR Doc. 2024-18546 Filed 8-22-24; 8:45 am]

BILLING CODE 6690-01-P